NATIONAL AERONAUTICS AND SPACE ADMINISTRATION

48 CFR Parts 1805, 1823, 1825, and 1852

RIN 2700-AC92

Conformance With Federal Acquisition Circulars 2001-15 and 2001-14

AGENCY: National Aeronautics and Space Administration.

ACTION: Final rule.

SUMMARY: This final rule revises the NASA FAR Supplement (NFS) to conform to changes made to the Federal Acquisition Regulation (FAR) by Federal Acquisition Circular (FAC) 2001-15 by providing guidance to contracting officers for use of clause alternates to implement environmental management system (EMS) requirements on NASA facilities and removing the requirement for submission of SF 129, Solicitation Mailing List Application. Additional changes are made to conform to the revised definition of “United States” contained in FAC 2001-14 and to update the designated NASA ombudsman.

EFFECTIVE DATE: October 31, 2003.

FOR FURTHER INFORMATION CONTACT: Celeste Dalton, NASA, Office of Procurement, Contract Management Division (Code HK); (202) 358-1645; e-mail: Celeste.M.Dalton@nasa.gov.

SUPPLEMENTARY INFORMATION:

A. Background

Item I of FAC 2001-15 eliminated the SF 129, Solicitation Mailing List Application and the need to maintain paper-based sources of contractor information. As a result, a change to NFS Part 1805 is required. FAC 2001-15, item number V, Leadership in Environmental Management (E.O. 13148), requires insertion of Alternates I or II to FAR clause 52.223-5, Pollution Prevention and Right-to-Know Information, in certain contracts that provide for performance on a Federal facility if an Environmental Management System (EMS) is being implemented. NASA is implementing an EMS. This NFS change implements FAC 2001-15 item number V by providing guidance on when to use the alternates. FAC 2001-14, clarified the use of the term “United States.”

NFS section 1825.7001 is amended to remove the phrase “ its possessions, and Puerto Rico” since it is no longer necessary based on the definition of “United States” contained in FAR Part 25. Lastly, this change to the NFS updates the designated NASA ombudsman.

This is not a significant regulatory action and, therefore, was not subject to review under section 6(b) of Executive Order 12866, Regulatory Planning and Review, dated September 30, 1993. This rule is not a major rule under 5 U.S.C. 804.

B. Regulatory Flexibility Act

This final rule does not constitute a significant revision within the meaning of FAR 1.501 and Pub. L. 98-577, and publication for public comment is not required. However, NASA will consider comments from small entities concerning the affected NFS Parts 1805, 1823, 1825 and 1852 in accordance with 5 U.S.C. 610.

C. Paperwork Reduction Act

The Paperwork Reduction Act does not apply because the changes do not impose recordkeeping or information collection requirements which require the approval of the Office of Management and Budget under 44 U.S.C. 3501, et seq.

List of Subjects in 48 CFR Parts 1805, 1823, 1825, and 1852

Government Procurement.

Tom Luedtke,
Assistant Administrator for Procurement.

Accordingly, 48 CFR Parts 1805, 1823, 1825, and 1852 is amended as follows:

1. The authority citation for 48 CFR Parts 1805, 1823, 1825, and 1852 continues to read as follows:

Authority: 42 U.S.C. 2473(c)(1)

PART 1805—PUBLICIZING CONTRACT ACTIONS

2. Remove section 1805.205

PART 1823—ENVIRONMENT, ENERGY AND WATER EFFICIENCY, RENEWABLE ENERGY TECHNOLOGIES, OCCUPATIONAL SAFETY, AND DRUG-FREE WORKPLACE

3. Add Subpart 1823.10 to read as follows:

Subpart 1823.10—Federal Compliance With Right-to-Know Laws and Pollution Prevention Requirements

1823.1005 Contract clause.

(b) Use the clause with its Alternate I if the contract provides for contractor (1) Operation or maintenance of a NASA facility at which NASA has implemented or plans to implement an EMS, including, but not limited to the Jet Propulsion Laboratory and Michoud Assembly Facility; or

(2) Activities and operations—

(ii) The contracting officer and the procurement request initiator shall determine whether the contractor's activities or operations are covered within the EMS, in cooperation with the facility's environmental office, and in accordance with NPG 8553.1, “NASA Environmental Management System (EMS)” paragraph 1.2.c, and the local EMS documented procedures.

(c) Use the clause with its Alternate II whenever Alternate I is used.

PART 1825—FOREIGN ACQUISITION

1825.7001 [Amended]

4. Amend section 1825.7001 by removing “, its possessions, and “Puerto Rico”.

PART 1852—SOLICITATION PROVISIONS AND CONTRACT CLAUSES

5. Amend the clause at section 1852.215-84 by—

(a) Revising the date to read (OCT 2003, and

(b) In the second sentence of paragraph (b) removing “202-358-0422, facsimile 202-358-3083, e-mail sthomps1@hq.nasa.gov” and adding “202-358-0445, facsimile 202-358-3083, e-mail james.a.balinskas@nasa.gov” in its place.

[FR Doc. 03-27491 Filed 10-30-03; 8:45 am]

BILLING CODE 7510-01-P